DEPARTMENT OF STATE

[Public Notice: 9637]

Notice of 30-Day Public Comment Period Regarding the National Interest Determination for NuStar Logistics, L.P.'s Presidential Permit Application

AGENCY: Department of State.

ACTION: Notice of solicitation of comments.

SUMMARY: NuStar Logistics, L.P. (“NuStar”) applied for an amended Presidential Permit to authorize the operation and maintenance of existing pipeline facilities at the United States-Mexico border originally authorized under a 2003 Presidential Permit (the “Dos Loredos Pipeline”). Specifically, NuStar requested that the U.S. Department of State (“State Department”) amend the 2003 Presidential Permit to: Reflect NuStar's name change from Valero Logistics Operations, L.P. to NuStar Logistics, L.P. as owner and operator of the Dos Loredos Pipeline; and allow the import and export of a wider range of refined petroleum products across the international border, including regular and premium gasoline, kerosene, and diesel. The 2003 Presidential Permit only allows the shipment of liquefied petroleum gas (LPG) through the existing 8⅝-inch diameter pipeline for approximately 10.6 miles from the NuStar terminal in Laredo, Texas to a location on the Rio Grande known as “La Bota.”

After consulting with the public and interested agencies, on May 11, 2016, the State Department approved a Final Supplemental Environmental Assessment (“SEA”) for the Dos Laredos Pipeline and Finding of No Significant Impact (“FONSI”). Background information related to the application, including the SEA and FONSI may be found at: http://www.state.gov/e/enr/applicant/applicants/index.htm.

Executive Order 13337 (69 FR 25299) calls on the Secretary of State, or his designee, to determine if issuance of a Presidential Permit would serve the national interest. This decision will take into account a wide range of factors, including energy security; environmental, cultural, and economic impacts; foreign policy; and compliance with relevant federal regulations and issues.

The State Department invites members of the public to comment on any factor they deem relevant to the national interest determination that will be made for this permit application. Along with other factors such as those listed above, these comments will be considered in the final national interest determination. The public comment period will end 30 days from the publication of this notice.

Comments are not private. They will be posted on the site http://www.regulations.gov. The comments will not be edited to remove identifying or contact information, and the State Department cautions against including any information that one does not want publicly disclosed. The State Department requests that any part soliciting or aggregating comments received from other persons for submission to the State Department inform those persons that the State Department will not edit their comments to remove identifying or contact information, and that they should not include any information in their comments that they do not want publicly disclosed.

DATES: Comments must be submitted no later than August 15, 2016 at [TIME].

ADDRESSES: For reasons of efficiency, the State Department encourages the electronic submission of comments through the federal government's eRulemaking Portal (http://www.regulations.gov), enter the Docket No. DOS-2016-0051 and follow the prompts to submit a comment.

The State Department also will accept comments submitted in hard copy by mail and postmarked no later than August 15, 2016. Please note that standard mail delivery to the State Department can be delayed due to security screening. To submit comments by mail, use the following address: Office of Energy Diplomacy, Energy Resources Bureau (ENR/EDP/EWA) Department of State 2201 C St. NW., Ste 4428, Attn: Sydney Kaufman, Washington, DC 20520.

Dated: July 7, 2016.
R. Chris Davy,
Deputy Director, Office of Europe, Western Hemisphere and Africa, Bureau of Energy Resource, Department of State.

[FR Doc. 2016-16678 Filed 7-13-16; 8:45 am]

BILLING CODE 4710-AE-P